DEPARTMENT OF ENERGY

Federal Energy Regulatory Commission

Combined Notice of Filings #1

Take notice that the Commission received the following electric corporate filings:

Docket Numbers: EC15-159-001.

Applicants: Pinnacle West Capital Corporation, 4C Acquisition, LLC.

Description: Request of Pinnacle West Capital Corporation, et al. for Confirmation of Validity of Prior Authorization Under Section 203 of the FPA, et al.

Filed Date: 5/25/18.

Accession Number: 20180525-5251.

Comments Due: 5 p.m. ET 6/15/18.

Docket Numbers: EC18-95-000.

Applicants: Innovative Solar 31, LLC, Innovative Solar 47, LLC.

Description: Application for Authorization Under Section 203 of the Federal Power Act and Request for Expedited Consideration and Confidential Treatment of Innovative Solar 31, LLC, et al.

Filed Date: 5/29/18.

Accession Number: 20180529-5094.

Comments Due: 5 p.m. ET 6/19/18.

Take notice that the Commission received the following electric rate filings:

Docket Numbers: ER10-1789-006; ER10-1768-005; ER10-1770-005; ER10-1771-005; ER10-1793-005; ER12-1250-005; ER16-1924-003; ER16-1925-003; ER16-1926-003; ER16-2725-003; ER17-2426-001.

Applicants: PSEG Energy Resources & Trade LLC, PSEG Energy Solutions LLC, PSEG Fossil LLC, PSEG New Haven LLC, PSEG Nuclear LLC, PSEG Power Connecticut LLC, Pavant Solar II LLC, Bison Solar LLC, San Isabel Solar LLC, Public Service Electric and Gas Company, PSEG Keys Energy Center LLC.

Description: Notice of Non-Material Change in Status of the PSEG Affiliates.

Filed Date: 5/25/18.

Accession Number: 20180525-5240.

Comments Due: 5 p.m. ET 6/15/18.

Docket Numbers: ER18-500-003.

Applicants: AEP Southwestern Transmission Company, Inc.

Description: Tariff Amendment: Bentonville PSA to be effective 1/1/2018.

Filed Date: 5/25/18.

Accession Number: 20180525-5152.

Comments Due: 5 p.m. ET 6/4/18.

Docket Numbers: ER18-1693-000.

Applicants: GridLiance West Transco LLC.

Description: § 205(d) Rate Filing: GridLiance West Incentives Filing to be effective 7/25/2018.

Filed Date: 5/25/18.

Accession Number: 20180525-5232.

Comments Due: 5 p.m. ET 6/15/18.

Docket Numbers: ER18-1694-000.

Applicants: Consolidated Edison Company of New York, Inc., New York Independent System Operator, Inc.

Description: § 205(d) Rate Filing: Section 205 LGIA No. 2407—Con Edison and Cogen Linden to be effective 5/30/2018.

Filed Date: 5/29/18.

Accession Number: 20180529-5128.

Comments Due: 5 p.m. ET 6/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2018.
Nathaniel J. Davis, Sr.,
Deputy Secretary.

[FR Doc. 2018-12014 Filed 6-4-18; 8:45 am]

BILLING CODE 6717-01-P